FEDERAL ELECTION COMMISSION

11 CFR Part 100

[Notice 2005-25]

Electioneering Communications

AGENCY: Federal Election Commission.

ACTION: Notice of public hearing.

SUMMARY: The Federal Election Commission is announcing a public hearing on the proposed changes to its rule defining “electioneering communications” under the Federal Election Campaign Act of 1971, as amended.

DATES: The hearings will be held on Thursday, October 20, 2005 and will begin at 9:30 a.m.

ADDRESSES: Commission hearings are held in the Commission's ninth floor meeting room, 999 E Street, NW., Washington, DC.

FOR FURTHER INFORMATION CONTACT: Ms. Mai T. Dinh, Assistant General Counsel, 999 E Street, NW., Washington, DC 20463, (202) 694-1650 or (800) 424-9530.

SUPPLEMENTARY INFORMATION: On August 24, 2005, the Commission published a Notice of Proposed Rulemaking (“NPRM”) proposing revisions to its rule defining “electioneering communications” under the Federal Election Campaign Act of 1971, as amended. In the NPRM, the Commission stated it would hold a hearing on the proposed rules on October 19 and, if necessary, October 20, 2005. The Commission has determined that one day of public hearing will be sufficient. The hearing will be held on Thursday, October 20, 2005.

Dated: October 13, 2005.
Scott E. Thomas,
Chairman, Federal Election Commission.

[FR Doc. 05-20866 Filed 10-18-05; 8:45 am]

BILLING CODE 6715-01-P